DEPARTMENT OF THE INTERIOR

National Park Service

[NPS-NCRO-HAFE-0811-7947; 3851-SZM]

Notice of a Record of Decision, Harpers Ferry National Historical Park

AGENCY: National Park Service, Interior.

ACTION: Notice of a Record of Decision on the Final Environmental Impact Statement for the General Management Plan, Harpers Ferry National Historical Park.

SUMMARY: Pursuant to the National Environmental Policy Act of 1969 (NEPA), 42 U.S.C. 4332(2)(C), the National Park Service (NPS) announces the availability of the Record of Decision for the General Management Plan, Harpers Ferry National Historical Park, West Virginia, Virginia, and Maryland. As soon as practicable, the NPS will begin to implement the preferred alternative as contained in the Final Environmental Impact Statement issued by the NPS on August 27, 2010, and summarized in the Record of Decision. Copies of the Record of Decision may be obtained from the contact listed below or online at www.nps.gov/hafe.

FOR FURTHER INFORMATION CONTACT: David Hayes, Regional Planner and Transportation Liaison, National Capital Region, National Park Service, at 1100 Ohio Drive SW., Washington, DC 20242, by telephone at (202) 619-7277, or email at david_hayes@nps.gov.

SUPPLEMENTARY INFORMATION: The following course of action will occur under the selected alternative. The visitor contact station on Cavalier Heights will be improved to provide better orientation for park visitors and information on the park's many resources. It will be the starting point for an expanded transportation system that will allow visitors to reach areas of the park such as the Murphy Farm, Schoolhouse Ridge, and Camp Hill which were previously difficult to access without a car. It will also be a stop on the new Around-the-Park trail that will allow visitors to hike to all areas of the park. The Record of Decision includes a statement of the decision made, synopses of other alternatives considered, the basis for the decision, a description of the environmentally preferable alternative, a listing of measures to minimize environmental harm, and an overview of public involvement in the decision-making process.

Preserved historic buildings, period shops, exhibits, and outdoor furnishings will complement the interpretation provided by rangers and possible period artisans/demonstrators that will revitalize this area. Travelling exhibits will be sought to supplement interpretation provided within the park. A smaller information center and bookstore will remain but possibly be moved to new locations. Park artifact/museum object storage will be removed from the historic structures and the space converted to office use or other types of storage.

The Federal Armory will retain its current access. A study of the feasibility of returning John Brown's Fort to its original location will be undertaken. The train station will become a secondary portal to the site with proposed excursion trains arriving from Washington several days of the week. The armory canal will be restored and rewatered with the turbine also restored for interpretive purposes. The power plant will be rehabilitated for exhibits.

Virginius and Halls Islands will be preserved as an archeological preserve with ruins stabilized and outlined and wayside exhibits explaining the history and industrial development that was there.

Camp Hill will be managed with a campus atmosphere reminiscent of the Storer College era. Additional signs and waysides will allow visitors to get the feel of the site. Museum exhibits now in Lower Town will be moved to one or more of the Storer College structures to better explain the importance of Harpers Ferry to the story of the civil rights movement in America. Several historic buildings from the military occupation of Camp Hill will be restored and adaptively used for park headquarters. The historic Shipley School on Camp Hill is currently in poor condition. Further consideration will be required to determine potential future use.

The historic Grandview School will be rehabilitated and enlarged for use by the park's protection division. The Nash Farm will be preserved as a dairy farm of the 1940s with its structures adapted for use as an environmental education center and outdoor laboratory managed by the NPS or an NPS Partner. At the Murphy Farm, the Civil War earthworks and the foundations of John Brown's Fort will be stabilized, and the Chambers/Murphy house studied to determine the best use for it. A bus stop and trail to the earthworks and foundations will be developed. Restrooms and drinking water will also be developed at the site.

Schoolhouse Ridge will also be managed as a battlefield landscape with agricultural leases that maintain the 1862 appearance. The nonhistoric campground will be removed and the Harpers Ferry Caverns restored to a more natural appearance. Nonhistoric structures will be removed. Onsite interpretation and occasional interpretive demonstrations with a military focus will be provided. Bus parking and trails will be developed.

At the Potoma Wayside, upgraded takeout facilities will be developed to facilitate river use. The takeout will be hardened and restroom facilities provided. To the extent possible, parking will also be upgraded. Interpretation will be provided by the concessioner.

On Loudoun Heights, the Sherwood House will be removed and the site developed as a Civil War overlook. All Civil War camps and earthworks will be stabilized as necessary.

The majority of the site will be maintained for its natural resources. Short Hill will be managed similarly.

Maryland Heights will undergo stabilization of earthworks and fortifications as necessary and restoration of line of fire vistas. Historic roads will continue to be used and maintained. A more comprehensive level of interpretation will be achieved through wayside exhibits, site brochures and occasional ranger-guided hikes. Three additional alternatives were analyzed in the Draft and Final Environmental Impact Statements. The full range of foreseeable environmental consequences was assessed, and appropriate mitigating measures were identified.

The Regional Director, National Capital Region, approved the Record of Decision for the project. The official primarily responsible for implementing the General Management Plan is the Superintendent of Harpers Ferry National Historical Park.

Dated: July 22, 2011.
Stephen E. Whitesell,
Regional Director, National Capital Region.

[FR Doc. 2012-7744 Filed 3-29-12; 8:45 am]

BILLING CODE 4312-JT-P